DEPARTMENT OF HEALTH AND HUMAN SERVICES

Administration for Children and Families

Proposed Information Collection Activity; Comment Request

Proposed Projects:

Title: Provision of Services in Interstate Child Support Enforcement: Standard Forms.

OMB No.: 0970-0085.

Description: Public Law 104-193, the Personal Responsibility and Work Opportunity Reconciliation Act of 1996, amended 42 U.S.C. 666 to require state child support enforcement (CSE) agencies to enact the Uniform Interstate Family Support Act (UIFSA) into state law by January 1, 1998. Section 311(b) of UNIFSA requires the states to use standard interstate forms, as mandated by Federal law. 45 CFR 303.7 also requires CSE programs to transmit child support case information on standard interstate forms when referring cases to other states for processing. The forms are expiring and we are taking the opportunity to make small revisions that have been requested by states.

Respondents: State agencies administering the child support enforcement program under title IV-D of the Social Security Act.

Annual Burden Estimates:

Instrument | Number of respondents | Number of responses per respondent | Average burden hours per response | Total burden hours
Transmittal 1 | 54 | 19,278 | .25 | 260,253
Transmittal 2 | 54 | 14,458 | .08 | 62,459
Transmittal 3 | 54 | 964 | .08 | 4,164
Uniform Petition | 54 | 9,639 | .08 | 41,640
General Testimony | 54 | 11,567 | .33 | 206,124
Affidavit—Paternity | 54 | 4,819 | .17 | 44,238
Locate Data Sheet | 54 | 375 | .08 | 1,620
Notice of Controlling Order | 54 | 964 | .08 | 4,164
Registration Statement | 54 | 8,675 | .08 | 37,476

Estimated Total Annual Burden Hours: 662,138

It compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-Mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 10, 2003
Robert Sargis,
Reports Clearance Officer.

[FR Doc. 03-31380 Filed 12-18-03; 8:45 am]

BILLING CODE 4184-01-M